DEPARTMENT OF THE INTERIOR

National Park Service

George Washington Boyhood Home Special Resource Study, Environmental Impact Statement

AGENCY: National Park Service.

ACTION: Notice of intent to prepare an Environmental Impact Statement for the George Washington Boyhood Home Special Resource Study.

SUMMARY: Under the provisions of the National Environmental Policy Act, the National Park Service is preparing an Environmental Impact Statement for the George Washington Boyhood Home Special Resource Study. This Environmental Impact Statement will be approved by the Northeast Regional Director.

The US Congress authorized the special resource study in Section 509(c) PL 105-355 to examine how the cultural and natural resources of the property can be protected and public use of the site furthered. The George Washington Boyhood Home property, also known as Ferry Farm, is located in Stafford County, Virginia. The property, part of the 18th century plantation where George Washington spent his youth, is now owned by the George Washington's Fredericksburg Foundation. Congress also authorized the Department of the Interior, through the National Park Service, to acquire easements on the property. The overall purpose of the study is to identify an appropriate management framework to achieve resource protection and public use goals. Leadership for the study project is being provided by the Superintendent of Fredericksburg and Spotsylvania National Military Park.

A scoping meeting will be scheduled. Public notice will be accomplished through a broad mailing and publication in the local newspaper. A newsletter introducing the project to the public is available. Copies of the newsletter can be obtained by request through the Superintendent, Fredericksburg and Spotsylvania National Military Park at the phone number below or by e-mail to ferryfarm@nps.gov.

FOR FURTHER INFORMATION CONTACT: Contact Superintendent, Fredericksburg and Spotsylvania National Military Park, 540-373-4510 or at ferry farm @nps.gov.

Dated: August 1, 2000.
Pat Phelan,
Associate Regional Director, Northeast Region.

[FR Doc. 00-20519 Filed 8-11-00; 8:45 am]

BILLING CODE 4310-70-M